FEDERAL COMMUNICATIONS COMMISSION

47 CFR Part 64

[CG Docket Nos. 10-51 and 03-123; FCC 19-39]

Improving Video Relay Service and Direct Video Calling

AGENCY: Federal Communications Commission.

ACTION: Final rule.

SUMMARY: In this document, the Federal Communications Commission (FCC or Commission) takes actions to: Enable direct video calling between sign language users and customer support call centers, by adopting procedures for qualified entities to register customer support telephone numbers in the telecommunications relay service (TRS) Numbering Directory; facilitate per-call validation of video relay service (VRS) user registrations via the TRS Numbering Directory querying system; require VRS providers to register enterprise and public videophones in the TRS user registration database (User Database or Database); prohibit VRS providers from offering or providing non-service related inducements to entice consumers to sign up for or use a VRS provider's service; and make technical corrections to the Commission's TRS rules. These actions will improve VRS and direct video calling for people with disabilities and help protect against waste, fraud, and abuse to the TRS program.

DATES: Effective Date: These rules are effective July 8, 2019, except for the amendments to §§ 64.611, 64.613, and 64.615, which are delayed. The Commission will publish a document in the Federal Register announcing the effective date.

FOR FURTHER INFORMATION CONTACT: Michael Scott, Consumer and Governmental Affairs Bureau, at (202) 418-1264, or email Michael.Scott@fcc.gov.

SUPPLEMENTARY INFORMATION: This is a summary of the Commission's Report and Order, document FCC 19-39, adopted on May 9, 2019, released on May 15, 2019, in CG Docket Nos. 10-51 and 03-123. The Commission previously sought comment on these issues in the Further Notice of Proposed Rulemaking (2017 VRS Improvements FNPRM), published at 82 FR 17613, April 12, 2017. A Further Notice of Proposed Rulemaking (FNPRM) contained in document FCC 19-39 is published elsewhere in this issue of the Federal Register. The full text of document FCC 19-39 will be available for public inspection and copying via the Commission's Electronic Comment Filing System (ECFS), and during regular business hours at the FCC Reference Information Center, Portals II, 445 12th Street SW, Room CY-A257, Washington, DC 20554. To request materials in accessible formats for people with disabilities (Braille, large print, electronic files, audio format), send an email to fcc504@fcc.gov, or call the Consumer and Governmental Affairs Bureau at (202) 418-0530 (voice) or (202) 418-0432 (TTY).

Congressional Review Act

The Commission sent a copy of document FCC 19-39 to Congress and the Government Accountability Office pursuant to the Congressional Review Act, 5 U.S.C. 801(a)(1)(A).

Final Paperwork Reduction Act of 1995 Analysis

The Report and Order in document FCC 19-39 contains modified information collection requirements, which are not effective until approval is obtained from OMB. The Commission, as part of its continuing effort to reduce paperwork burdens, will invite the general public to comment on these information collection requirements as required by the Paperwork Reduction Act (PRA) of 1995, Public Law 104-13. The Commission will publish a separate document in the Federal Register announcing approval of the information collection requirements. Pursuant to the Small Business Paperwork Relief Act of 2002, Public Law 107-198, 44 U.S.C. 3506(c)(4), the Commission previously sought comment on how the Commission might “further reduce the information burden for small business concerns with fewer than 25 employees.” 2017 VRS Improvements FNPRM.

Amendments to §§ 64.611, 64.613, and 64.615 of the Commission's rules, which contain modified information collection requirements, shall be effective on the date specified in a document to be published in the Federal Register announcing Office of Management and Budget (OMB) approval of the information collection requirements of such rules pursuant to the Paperwork Reduction Act.

Synopsis

1. VRS is a form of TRS that enables people with hearing or speech disabilities who use sign language to make telephone calls over broadband with a videophone. In addition to enabling communication between ASL users and voice users, the VRS system also enables ASL users to communicate directly with other ASL users via video.

Direct Video Access to the TRS Numbering Directory

2. In order to facilitate direct video calling between sign language users and customer support call centers, the Commission allows telephone numbers and routing information for qualifying call centers to be entered in the TRS Numbering Directory (Numbering Directory or Directory). Entities designated as “Qualified Direct Video Entities” may be granted access to the Directory in order to support direct communications between registered VRS users and customer support call centers. As the Commission has previously recognized, point-to-point video supports the purposes of section 225 of the Act more directly than VRS does, because the communication it enables is direct, rather than mediated, and far more efficient. Therefore, the Commission's action provides a major opportunity to enhance the ability of sign language users to engage in more effective, efficient, and private communication with customer support—especially because so much of VRS traffic involves calls placed to the customer support call centers of large businesses and government agencies. For the same reason, enabling such communication makes possible major cost savings for the TRS Fund, by reducing the need for third-party CAs to participate in customer support calls.

3. To implement this change, the Commission first clarifies who can be afforded such Directory access. Because the purpose of this rule is to facilitate the use of telephone numbers to reach direct-video-capable customer support centers, the Commission defines a Qualified Direct Video Entity that may be granted Directory access as an individual or entity that is engaged in direct video customer support and that (1) is the end-user customer that has been assigned the telephone number(s) used for direct video customer support calls or (2) is the designee of such an entity.

4. Obtaining Numbering Directory Access. In order to obtain authorization for access to the Directory as a Qualified Direct Video Entity, an interested party must submit an application to the Commission's Consumer and Governmental Affairs Bureau (CGB) that includes: (1) The applicant's name, address, telephone number, and email address; (2) a description of the service to be provided; (3) an acknowledgment that Directory access is conditional on compliance with applicable Commission rules, obligations, and standards; (4) contact information for personnel responsible for such compliance; and (5) certification that the applicant's description of service meets the definition of direct video customer support and that the information provided is accurate and complete. CGB, in consultation with the Commission's Office of the Managing Director, shall approve Directory access if the applicant demonstrates, through its responses to each of the above requests for information and any additional information requested by CGB, that it has a legitimate need for such access and is aware of its regulatory obligations. A Qualified Direct Video Entity may relinquish its Directory access authorization by so notifying the Commission, and such authorization will terminate automatically if one year elapses with no call-routing queries received regarding any of the Entity's numbers. Further, the Commission may terminate such authorization if it determines, after notice to the entity and an opportunity to contest such termination, that the entity is no longer qualified as described in its application, has materially misrepresented information to the Commission, the TRS Numbering Administrator, or the User Database administrator, has failed to provide required information in the format requested, or has violated an applicable Commission rule or order. Following the termination of an authorization, the TRS Numbering administrator shall remove the previously authorized entity's telephone numbers from the TRS Numbering Directory.

5. After receiving Commission approval, a Qualified Direct Video Entity shall enter a telephone number into the Directory by submitting the telephone number, associated call routing information, and registration information in accordance with instructions provided by the TRS Numbering administrator. For each customer support telephone number to be entered into the Directory, unless otherwise instructed by the User Database administrator, a Qualified Direct Video Entity must create an equivalent entry in the Database by providing: The Entity's name; the date that the Entity was approved for Directory access; the name of the end-user customer support call center(s) (if different from the Entity); contact information for the end-user customer support call center(s) that will receive calls placed to the customer support number; and other information reasonably requested by the User Database administrator. Providing such information will enable the User Database administrator and the TRS Numbering administrator to confirm that the Qualified Direct Video Entity has been approved for Directory access and will help ensure that the Directory provides an appropriate response to a VRS provider's per-call validation query regarding the customer support telephone number. A Qualified Direct Video Entity must provide appropriate notification as directed by the User Database administrator and the TRS Numbering Administrator if any of the information provided changes or if a customer support number entered in the Directory is transferred to a different Qualified Direct Video Entity or is no longer being used for a qualified direct video purpose. The User Database administrator shall remove from the User Database each customer support telephone number for a Qualified Direct Video Entity that has had its authorization to access the TRS Numbering Directory terminated.

6. A Qualified Direct Video Entity's Directory access includes (1) adding and deleting customer support telephone numbers and routing information, (2) conducting data queries to obtain routing information for outbound point-to-point video calls originating from such telephone numbers, (3) conducting data queries to enable the transfer of inbound direct video calls to a VRS provider when needed, and (4) performing other necessary administrative functions as determined by the TRS Numbering administrator in consultation with the User Database administrator and the Commission.

7. Qualified Direct Video Entities granted access to the Directory will be held to the same rules and obligations that govern VRS providers' access to the Directory and use of Directory numbers, including complying with the instructions of the TRS Numbering Administrator, and applicable standards pertaining to privacy, security, and reliability. To ensure effective telephone communication, the Commission further require that videophones, software, and transmission protocols used for direct video customer support adhere to the same interoperability standards applicable to VRS providers. Further, Qualified Direct Video Entities may be subject to fees to recover any additional costs incurred by the TRS Numbering Administrator or other TRS administrators. Accordingly, the Commission does not anticipate that any significant regulatory burdens or costs will be imposed on the TRS Fund or VRS providers. Moreover, because participation by video entities is strictly voluntary, the Commission is confident that the benefits of such participation will far exceed the minimal participation costs incurred by those entities choosing to participate.

8. Customer Support Telephone Numbers for VRS and Direct Video Callers. The Commission will let the business or government agency involved in customer support services determine whether to make direct video communication available via a dedicated video number or via the generally advertised customer support number, as long as consumers retain the ability to communicate with customer support centers through VRS.

9. Outset of a Call—Dedicated Direct Video Customer Support Number. If the telephone number entered in the Directory is a dedicated direct video line that is different from the company's generally advertised telephone number, a consumer will be able to choose between dialing the dedicated direct video number or dialing the generally advertised customer support number and communicating through VRS. If operating a dedicated direct video customer support number, businesses or government agencies may also use interactive response systems that allow the host system to interact with the VRS user through the use of ASL and dual-tone multi-frequency signaling (DTMF). Currently, before setting up a relay call, VRS providers must check the Directory to ensure that the call is not being made to a destination telephone number that can accept video calls directly. If the call center uses a dedicated number for direct video calls, only the dedicated number will be listed in the Directory, and VRS users seeking to communicate via direct video must dial that dedicated number. The generally advertised customer support number will not be listed in the Directory; therefore, a VRS user who wishes to initiate a customer support call via VRS can simply dial the general customer support number, instead of the dedicated video number, and a VRS provider will automatically handle the call as a VRS call, in the same manner as when a VRS user dials any voice telephone number.

10. Outset of a Call—Single Unified Customer Support Number. Alternatively, the direct video number entered in the directory may be the same as the generally advertised telephone number used for voice calls to the customer support call center. In this case, VRS users seeking to communicate with customer support via direct video will simply dial the generally advertised number on their videophone, and—because that generally advertised number will be listed in the Directory—the call will be routed directly to the customer support center as a point-to-point video call. The customer support center then will detect the call as a videophone call and connect the caller directly to a representative using sign language, a sign language-enabled Interactive Video Response system, or another appropriate network termination for the sign language user. Sign language users who instead wish to use VRS will be able to bypass the direct video option by first entering their VRS provider's URL (or selecting a menu option on their device's screen to do this) and then directing the VRS CA to place a VRS call to the generally advertised customer support number. Once the CA is on the call, it will be routed as a voice call and detected as such by the customer support center. Any prompts or announcements conveyed to VRS users regarding calls to direct-video-equipped call centers must be neutral and must not be worded so as to “steer” the user toward requesting that a customer support call be handled as a VRS call rather than as a direct video call.

11. The Commission directs the TRS Numbering Administrator to implement a method for identifying single unified customer support numbers (e.g., by adding an appropriate field to the format for routing query responses). The Commission also directs the TRS Fund administrator to provide a method for reporting VRS calls involving unified customer support numbers and verifying the compensability of such calls. The Commission directs the Disability Rights Office to announce the effective date for the rules governing single unified customer support numbers once these steps have been taken.

12. Converting Direct Video Calls to VRS. Under either of the above alternatives, authorizations for TRS Numbering Directory access are conditional on the customer support center being able to initiate a call transfer that converts a point-to-point video call into a VRS call, in the event that a VRS user communicating with a direct video customer agent needs to be transferred to a hearing person, such as a supervisor or specialist within the customer support center, while the call is in progress. Although the Commission does not mandate how this is to be done, it notes that existing protocols, such as the Session internet Protocol (SIP) transfer procedure, provide a framework for call transfers, whereby the caller's default VRS provider could re-connect the call to a VRS CA, who would then complete the call between the VRS user and the hearing customer support agent via VRS. As there is at least one commonly deployed mechanism for dynamically, seamlessly upgrading a direct video call to a VRS call that is a common part of the SIP standard, the Commission believes there will be little cost to this integration, and that such costs will be exceeded by the benefits of enabling videophone users to easily access VRS providers when CA services are necessary. Further, the VRS provider's obligation to implement such a call transfer on request is consistent with a VRS provider's obligations to route and deliver a user's inbound and outbound calls, ensure interoperability, and provide functionally equivalent service. To expedite this process, the Commission encourages VRS providers and Qualified Direct Video Entities to work cooperatively to implement the necessary technical changes for such call transfers that minimize the burden to VRS users to communicate with the appropriate party on a call. No later than six months after the effective date of the amendments to this section, each VRS provider shall be capable of activating an effective call transfer procedure within 60 days after receiving a request to do so from a Qualified Direct Video Entity. Finally, to the extent that call transfers of this kind are prohibited by the VRS Provider Interoperability Profile technical standard, the Commission exempts such call transfers from such prohibition. The Commission directs the TRS Fund administrator to revise its filing instructions to provide appropriate and timely guidance to VRS providers on the format to be used and the information to be provided when claiming compensation for VRS calls that are involved in such call transfers.

TRS User Registration Database

13. Facilitating Call Validation through the TRS Numbering Directory. The Commission's rules require VRS providers to validate the eligibility of the party on the video side of each VRS call by querying the User Registration Database. The Commission amends its rules to allow for implementation of a querying method that makes use of the existing TRS Numbering Directory querying system by requiring VRS providers to direct call validation queries to the appropriate system of records (either the Numbering Directory or the User Database) that is identified in the relevant instructions, which will be issued by the Commission, the TRS Fund administrator, or the TRS Numbering Administrator. The Commission takes this action to provide greater flexibility for administration of the VRS program and enable the operation of TRS data systems in the most effective and efficient way.

14. With the adoption of this rule change, as well as the requirement for registration of enterprise and public videophones, discussed below, the stage is set for activation of the per-call query function. A compliance date for the per-call validation requirement will be set by public notice, which will be issued by CGB no earlier than 90 days after the expiration of the 120-day window for submission of enterprise and public videophone registration data to the Database. This will allow a period of parallel operation once all of the data is submitted to the Database, but before providers are required to rely on the per-call validation queries.

15. Registering Enterprise and Public Videophones in the Database. The Commission amends its rules to require VRS providers to submit registration information to the User Registration Database administrator for public and enterprise videophones. Such registration is necessary to assist the Fund administrator in reviewing compensation requests involving such videophones and auditing how such videophones are used, and thereby to help prevent waste, fraud, and abuse in the VRS program. A VRS provider must submit registration information for any enterprise or public videophone for which it assigns or receives a port of a NANP telephone number (i.e., for which it is the default VRS provider). As with individual user registrations, once an enterprise or public videophone has been registered in the User Registration Database, the videophone's telephone number will be transmitted to the TRS Numbering Directory to enable per-call validation queries.

16. The Commission does not address at this time the proposal to require default VRS providers to implement log-in procedures for individuals using enterprise and public videophones for VRS calls. Pending Commission action on the log-in proposal, VRS providers will be paid for compensable calls that are completed to and from such videophones in compliance with rules in effect at the time of the call.

17. Definitions. The Commission defines an “enterprise videophone” as a videophone maintained by a business, organization, government agency, or other entity and designated for use by its employees or other individuals in private or restricted areas. Videophones provided by enterprises may be situated in a variety of locations, including private or shared offices, conference rooms, other common rooms, or hospital rooms, and therefore may be intended for use by individuals other than “employees”—while still not fitting the definition of a “public” videophone. The Commission defines a “public videophone” as a videophone maintained by a business, organization, government agency, or other entity, and made available for use by the public in a public space, such as a public area of a business, school, hospital, library, airport, or government building. As adopted, both definitions make clear that the covered devices may be used for point-to-point calls by people who may not know ASL. Because the TRS Fund does not compensate for point-to-point calls, there is no reason to require ASL as opposed to any other form of sign language during such calls.

18. Registration and Certification Requirements. The Commission requires each VRS provider to submit the following registration information for enterprise and public videophones for which it assigns or receives a port of a NANP telephone number: The name of the default VRS provider; the videophone's NANP telephone number; The name and physical address of the organization, business, or agency where the enterprise or public videophone is located; the date that the default VRS provider initiated service to the videophone; the name of the individual associated with the organization, business, or agency who is responsible for the videophone; and confirmation that the provider has obtained a signed certification from that individual stating that such person understands the function of the videophone and that the cost of VRS calls made on the videophone is financed by the federally regulated Interstate TRS Fund.

19. For enterprise videophones, the signed certification must also include a statement from the responsible individual that the organization, business, or agency will make reasonable efforts to ensure that only persons with a hearing or speech disability are permitted to use the phone for VRS. The VRS provider must also state whether the device is assigned to a hearing individual who knows sign language and identify the specific type of location where the videophone is placed within the organization, business, or agency, to enable the administrator to conduct studies of how these phones are used and to identify unusual calling patterns that might signal waste, fraud, or abuse.

20. The Commission does not require VRS providers to submit the tax identification (ID) number of a registering enterprise because other information is available to verify the identity and location of an enterprise. The Commission requires VRS providers to maintain the confidentiality of any registration and certification information they obtain for enterprise and public videophones.

21. Timeframe for Compliance. The Commission will release a public notice announcing a 120-day period within which VRS providers must submit registration information to the Database administrator for all enterprise and public videophones then in service. For VRS calls placed on or before the data submission deadline (i.e., the last day of this 120-day period) to and from phone numbers identified by TRS providers as associated with enterprise and public videophones, compensation will be paid if such calls are determined to be compensable in accordance with the procedures in place as of the date of the call. For calls placed after the data submission deadline, if registration data for the enterprise or public videophone was submitted to the Database on or before the data submission deadline, and the verification check is not completed as of that deadline, compensation will be paid or withheld in accordance with the guidance provided in the TRS-URD Registration Extension Order, document DA 18-196. If a public or enterprise videophone is activated after the data submission deadline, or if registration information for an existing phone is not submitted until after the deadline, VRS calls to or from the videophone are compensable only if made after the registration data has been submitted and verified.

22. Terminations and Usage Monitoring. In the Report and Order, the Commission requires VRS providers to monitor enterprise and public videophone usage and to report any unusual activity to the TRS Fund administrator. In addition, the Commission requires VRS providers to notify the TRS Fund administrator within one business day after a registered enterprise or public videophone is removed or permanently disconnected from VRS. The collection of this information is necessary to prevent waste, fraud, and abuse, given that enterprise and public videophones are available for use by multiple individuals.

Prohibiting Non-Service Related Inducements

23. In the Report and Order, the Commission prohibits VRS providers from offering or providing non-service related inducements that are intended to entice consumers to sign up for or use a VRS provider's service. Specifically, the Commission adopts a new rule prohibiting VRS providers from offering or providing, to any individual or entity, any form of direct or indirect incentives, financial or otherwise, whether express or implied, for the purpose of encouraging individuals to register for or use a VRS provider's service.

24. The rule amendment addresses sign-up incentives aimed primarily at inducing current VRS users to switch (or refrain from switching) providers, rather than recruiting entirely new users. Such incentives undermine the achievement of statutory objectives, albeit in a more indirect fashion. Competition among providers to offer sign-up inducements tends to increase VRS costs without improving the quality of service, impairing providers' ability and incentive to compete on service quality. Further, to the extent that inducements to choose a particular provider are offered selectively to relatively high volume users (or to consumers perceived as such), they are likely to increase the cost burden on the TRS Fund, by generating a perverse incentive for users to make calls that otherwise would not be made. In the context of a service supported by the TRS Fund, the record does not disclose any benefit from non-service-related incentives that could conceivably offset the harms described above.

25. The inducements the Commission prohibits are not limited to loyalty programs, user appreciation awards, charitable donations and other incentives to increase VRS usage, but also include non-service-related give-aways, such as video game systems, that reward or entice users to register for or use a particular provider's VRS. The prohibition covers inducements to continue using a particular provider as well as inducements to change one's default provider or to dial-around to a particular provider. The Commission does not prohibit de minimis give-aways, such as pens and T-shirts, as such items do not rise to the level of an inducement sufficient to entice a consumer to sign up for or use a particular provider's service. The Commission concludes that this approach builds upon the Commission's earlier financial incentives rulings in ways that account for the particular harms to statutory goals and TRS policies arising from these types of incentives. Where a consumer device is given out to induce users to switch default providers, or stay with their current provider, and is not the type of device ordinarily needed or used to place a VRS call, it should be prohibited. In determining whether a free give-away constitutes a non-service related inducement, the Commission will consider, among other things, the extent to which the equipment is designed, marketed, and used for relay communication. Providers that are uncertain about the permissibility of giving away a particular device may seek guidance from the Commission prior to engaging in such activity.

26. Although this new rule does not cover providing VRS-related items, such as videophones and video monitors, at no or minimal charge, the Commission's existing rule prohibiting VRS provider practices that improperly stimulate VRS usage necessarily encompasses the practice of providing VRS-related equipment at no or minimal charge to select users based on their actual or expected volume of VRS minutes. The Commission reminds VRS providers that, absent a clear justification, e.g., based on the nature of a particular person's disability, or the launching of a limited-duration opt-in product testing program with clear instruction on participation requirements, the provision of equipment at no or minimal charge to select individuals, whether or not service-related, may be deemed evidence that a provider has violated the rule against practices that cause or encourage the making of VRS calls that would not otherwise be made.

Technical Corrections to the TRS Rules

27. The Commission amends § 64.604(c) of its rules to correct erroneous cross-references and an incorrect paragraph number. Specifically, the cross-references in the current text of § 64.604(c)(5)(iii)(D) of its rules, citing provisions of paragraph (c)(5)(iii)(C), are corrected to cite the corresponding provisions of paragraph (c)(5)(iii)(D). In addition, § 64.604(c)(12) of its rules, which includes two paragraphs (c)(12)(ii), is corrected to change the numbering of the second paragraph from (c)(12)(ii) to (c)(12)(iii).

Final Regulatory Flexibility Analysis

28. As required by the Regulatory Flexibility Act of 1980, as amended, the Commission incorporated an Initial Regulatory Flexibility Analysis (IRFA) into 2017 VRS Improvements FNPRM. The Commission sought written public comment on the proposals in the 2017 VRS Improvements FNPRM, including comment on the IRFA. No comments were received in response to the IRFA.

Need For, and Objectives of, the Rules

29. With regard to enterprise and public videophones, the Report and Order adopts requirements for VRS providers to: (1) Submit registration information to the User Database administrator for each enterprise or public videophone after notice from the Commission that the Database is ready to accept such information; (2) notify the TRS Fund administrator in the event a registered enterprise or public videophone is removed from service or permanently disconnected from VRS, within one business day of such termination; and (3) monitor videophone usage and report any unusual activity to the TRS Fund administrator.

30. The Report and Order also (1) adopts a requirement for VRS providers, when validating the eligibility of the party on the video side of each VRS call, to query either the User Database or the TRS Numbering Directory, as directed by the Commission, the TRS Fund administrator, or the TRS Numbering Administrator; (2) allows qualified entities to access the TRS Numbering Directory in order to enable direct video calling (direct video) by registered VRS users to customer support call centers; and (3) prohibits VRS providers from offering or providing any form of direct or indirect incentives for the purpose of encouraging consumers to register for or use VRS.

Summary of Significant Issues Raised by Public Comments in Response to the IRFA

31. No comments were filed in response to the IRFA.

Response to Comments by the Chief Counsel for Advocacy of the Small Business Administration

32. The Chief Counsel for Advocacy of the Small Business Administration did not file any comments in response to the proposed rules in this proceeding.

Small Entities Impacted

33. The rules adopted in the Report and Order will affect obligations of VRS providers and providers of direct video services. These services can be included within the broad economic category of All Other Telecommunications.

Description of Projected Reporting, Recordkeeping, and Other Compliance Requirements

34. The rule prohibiting VRS providers from offering or providing incentives to register for or use VRS does not create direct reporting and recordkeeping requirements, but does impose compliance requirements on VRS providers. Specifically, this rule requires VRS providers to refrain from offering or providing incentives to encourage consumers to register for or use VRS.

35. The rules affecting enterprise and public videophones will require VRS providers to collect and retain identifying information for the videophones for which they are the default VRS provider and to provide that information to the User Database administrator, including the name of the default VRS provider, the name and physical address of the organization, business, or agency where the videophone is located, the date that service to the videophone is initiated, the name of the individual associated with the organization, business, or agency who is responsible for maintaining the videophone, and confirmation that the provider has obtained a signed certification from that individual stating that such person understands the function of the videophones and that the cost of VRS calls is financed by the federally regulated Interstate TRS Fund, and for enterprise phones that the person certifying will make reasonable efforts to ensure that only eligible users make use of the videophones. VRS providers are also required to monitor usage of enterprise and public videophones and report unusual activity to the TRS Fund administrator.

36. The rules require VRS providers, when validating the eligibility of the party on the video side of each VRS call, to query either the User Database or the TRS Numbering Directory, as directed by the Commission, the TRS Fund administrator or the TRS Numbering Administrator, rather than requiring that only the User Database may be queried.

37. Qualified Direct Video Entities seeking access to the TRS Numbering database are required to submit an application that includes: (1) The applicant's name, address, telephone number, and email address; (2) a description of the service to be provided; (3) an acknowledgment that the authorization granted under this paragraph is subject to compliance with applicable Commission rules; (4) contact information for personnel responsible for addressing issues relating to such compliance; and (5) certification that the applicant possesses the financial, managerial, and technical expertise to provide reliable service. To enter a telephone number into the TRS Numbering Directory, Qualified Direct Video Entities will be required to submit the telephone number, associated call routing information, and registration information in accordance with instructions provided by the User Database administrator. The Qualified Direct Video Entity must provide to the User Database administrator the Qualified Direct Video Entity's name; the date that the Qualified Direct Video Entity was approved for numbering access; the name of the end-user customer support center (if different from the Qualified Direct Video Entity); the physical address of the customer support center or centers that will receive calls placed to the direct video number and other information reasonably requested by the User Database administrator.

Steps Taken To Minimize Significant Impact on Small Entities, and Significant Alternatives Considered

38. The provision of VRS to enterprise and public videophones is optional for VRS providers. The registration requirements for such videophones apply equally to all VRS providers and users, and are necessary to prevent waste, fraud, and abuse of the TRS Fund by making it possible for the TRS Fund administrator to monitor call data records for unusual call patterns. The registration requirements for enterprise and public videophones are no more burdensome than the registration requirements for individual videophones. To the extent there are differences in operating costs resulting from economies of scale, those costs are reflected in the different rate structures applicable to large and small VRS providers.

39. The rule requiring VRS providers, when validating the eligibility of the party on the video side of each VRS call, to query either the User Database or the TRS Numbering Directory, as directed by the Commission, the TRS Fund administrator, or the TRS Numbering Administrator, rather than requiring that only the User Database may be queried, as the rules are currently written, is not burdensome. This change does not alter the basic requirement to query a database; its only effect is to possibly change the database that providers must query.

40. Permitting Qualified Direct Video Entities to access the TRS Numbering Directory is necessary for the purpose of routing calls to and from such customer support call centers. Granting access will subject Qualified Direct Video Entities to call-routing, application, and registration rules that are similar to and no more burdensome than those currently applicable to VRS providers. The application and registration requirements apply only to those entities that seek to place numbers in the TRS Numbering Directory and are necessary to ensure that such entities are aware of and capable of meeting their regulatory obligations and have a legitimate need to access the TRS Numbering database.

41. Prohibiting VRS providers from offering or providing direct or indirect inducements to register for or use VRS will help ensure that VRS is available to the extent possible and in the most efficient manner while helping to limit waste, fraud, and abuse by preventing VRS providers from encouraging users to make calls that the users might otherwise not make. Adopting this prohibition may benefit small VRS providers by removing competitive costs associated with offering inducements unrelated to providing service and focusing competition on service quality.

Ordering Clauses

42. Pursuant to sections 1, 2, 225, and 251 of the Communications Act of 1934, as amended, 47 U.S.C. 151, 152, 225, 251, document FCC 19-39 is adopted and part 64 of title 47 is amended.

List of Subjects in 47 CFR Part 64

Individuals with disabilities, Telecommunications, Telecommunications relay services. Federal Communications Commission.

Marlene H. Dortch,
Secretary.

Final Rules

For the reasons discussed in the preamble, the Federal Communications Commission amends 47 CFR part 64 as follows:

PART 64—MISCELLANEOUS RULES RELATING TO COMMON CARRIERS

1. The authority citation for part 64 continues to read as follows:

Authority: 47 U.S.C. 154, 201, 202, 217, 218, 220, 222, 225, 226, 227, 228, 251(a), 251(e), 254(k), 262, 403(b)(2)(B), (c), 616, 620, and 1401-1473, unless otherwise noted.

2. Amend § 64.601 by redesignating paragraphs (a)(13) through (27) and (28) through (47) as paragraphs (a)(15) through (29) and (32) through (51) and adding new paragraphs (a)(13) and (14) and (30) and (31) to read as follows:

§ 64.601 Definitions and provisions of general applicability.

(a) * * *

(13) Direct video customer support. A telephone customer support operation that enables callers with hearing or speech disabilities to engage in real-time direct video communication in ASL with ASL speakers in a call center operation.

(14) Enterprise videophone. A videophone maintained by a business, organization, government agency, or other entity, and designated for use by its employees or other individuals in private or restricted areas.

* * * * *

(30) Public videophone. A videophone maintained by a business, organization, government agency, or other entity, and made available for use by the public in a public space, such as a public area of a business, school, hospital, library, airport, or government building.

(31) Qualified direct video entity. An individual or entity that is approved by the Commission for access to the TRS Numbering Directory that is engaged in direct video customer support and that is the end-user customer that has been assigned a telephone number used for direct video customer support calls or is the designee of such entity.

* * * * *

3. Amend § 64.604 by revising paragraphs (c)(5)(iii)(D)(2) introductory text, (c)(5)(iii)(D)(3), (c)(5)(iii)(D)(4) introductory text, (c)(5)(iii)(D)(4)(i), (c)(8) heading, and (c)(8)(v), adding paragraph (c)(8)(vi), and redesignating the second paragraph (c)(12)(ii) as paragraph (c)(12)(iii) to read as follows:

§ 64.604 Mandatory minimum standards.

* * * * *

(c) * * *

(5) * * *

(iii) * * *

(D) * * *

(2) Call data required from all TRS providers. In addition to the data requested by paragraph (c)(5)(iii)(D)(1) of this section, TRS providers seeking compensation from the TRS Fund shall submit the following specific data associated with each TRS call for which compensation is sought:

* * * * *

(3) Additional call data required from internet-based Relay Providers. In addition to the data required by paragraph (c)(5)(iii)(D)(2) of this section, internet-based Relay Providers seeking compensation from the Fund shall submit speed of answer compliance data.

(4) Call record and speed of answer data. Providers submitting call record and speed of answer data in compliance with paragraphs (c)(5)(iii)(D)(2) and (3) of this section shall:

(i) Employ an automated record keeping system to capture such data required pursuant to paragraph (c)(5)(iii)(D)(2) of this section for each TRS call for which minutes are submitted to the fund administrator for compensation; and

* * * * *

(8) Incentives for use of IP CTS and VRS. * * *

(v) A VRS provider shall not offer or provide to any person or entity any form of direct or indirect incentives, financial or otherwise, for the purpose of encouraging individuals to register for or use the VRS provider's service.

(vi) Any IP CTS or VRS provider that does not comply with this paragraph (c)(8) shall be ineligible for compensation for such service from the TRS Fund.

* * * * *

4. Amend § 64. 611 by adding paragraph (a)(6) and revising paragraphs (c)(1)(i), (c)(2)(i), and (c)(2)(ii)(B) to read as follows:

§ 64.611 internet-based TRS registration.

(a) * * *

(6) Enterprise and public videophones—(i) Definition. For purposes of this section, a default VRS provider for an enterprise or public videophone is the VRS provider that assigns a North American Numbering Plan (NANP) telephone number to such videophone or receives a port of such number.

(ii) Enterprise and public videophone certification. (A) Written certification. A default VRS provider for an enterprise or public videophone shall obtain a written certification from the individual responsible for the videophone, attesting that the individual understands the functions of the videophone and that the cost of VRS calls made on the videophone is financed by the federally regulated Interstate TRS Fund, and for enterprise videophones, that the organization, business, or agency will make reasonable efforts to ensure that only persons with a hearing or speech disability are permitted to use the phone for VRS.

(B) Electronic signatures. The certification required by paragraph (a)(6)(ii)(A) of this section must be made on a form separate from any other agreement or form, and must include a separate signature specific to the certification. For the purposes of this paragraph (a)(6)(ii)(B), an electronic signature, defined by the Electronic Signatures in Global and National Commerce Act as an electronic sound, symbol, or process, attached to or logically associated with a contract or other record and executed or adopted by a person with the intent to sign the record, has the same legal effect as a written signature. For the purposes of this paragraph (a)(6)(ii)(B), an electronic record, defined by the Electronic Signatures in Global and National Commerce Act as a contract or other record created, generated, sent, communicated, received, or stored by electronic means, constitutes a record.

(C) Consent for transmission and confidentiality of enterprise and public videophone registration. A default VRS provider for an enterprise or public videophone must obtain consent from the individual responsible for the videophone to transmit the information required by this section to the TRS User Registration Database. Before obtaining such consent, a VRS provider must describe to such individual, using clear, easily understood language, the specific information being transmitted, that the information is being transmitted to the TRS User Registration Database to ensure proper administration of the TRS program, and that failure to provide consent will result in denial of service to the videophone. A VRS provider must obtain and keep a record of affirmative acknowledgment of such consent for every enterprise and public videophone. A VRS provider shall maintain the confidentiality of any registration and certification information obtained by the provider, and may not disclose such registration and certification information, or the content of such registration and certification information, except as required by law or regulation.

(iii) Enterprise and public videophone registration. A default VRS provider for an enterprise or public videophone shall transmit to the TRS User Registration Database, in a format prescribed by the administrator of the TRS User Registration Database, the following information for each enterprise or public videophone for which it assigns (or receives a port of) a North American Numbering Plan telephone number or for which it is the default VRS provider:

(A) The default VRS provider's name;

(B) The NANP telephone number assigned to the videophone;

(C) The name and physical address of the organization, business, or agency where the enterprise or public videophone is located, and the Registered Location of the phone if that is different from the physical address;

(D) Whether the videophone is a public or enterprise videophone, and for enterprise videophones, the type of location where the videophone is located within the organization, business, agency, or other entity, such as, but not limited to, a reception desk or other work area, a private workspace, a private room in a long-term care facility, or another restricted area;

(E) The date of initiation of service to the videophone by the default VRS provider;

(F) The name of the individual responsible for the videophone, confirmation that the provider has obtained the certification required by paragraph (a)(6)(ii) of this section, and the date the certification was obtained by the provider; and

(G) Whether the device is assigned to a hearing individual who knows sign language.

(iv) Transmission of data to the TRS User Registration Database. Default VRS providers shall transmit the information required by paragraph (a)(6)(iii) of this section for existing enterprise and public videophones within 120 days after notice from the Commission that the TRS User Registration Database is ready to accept such information. For videophones placed in service more than 120 days after such notice, the default VRS provider shall submit the required information and certification before initiating service. VRS calls placed to or from enterprise or public videophones more than 120 days after such notice shall not be compensable if the required registration information was not received by the TRS User Registration Database before placement of the call.

(v) Notice of removal or disconnection of enterprise and public videophones. VRS providers shall notify the TRS Fund administrator within one business day in the event that a registered enterprise or public videophone is removed or permanently disconnected from VRS.

* * * * *

(c) * * *

(1) * * *

(i) Obtain current routing information from their Registered internet-based TRS Users, registered enterprise and public videophones, and hearing point-to-point video users;

* * * * *

(2) * * *

(i) Take such steps as are necessary to cease acquiring routing information from any VRS, IP Relay, or hearing point-to-point video user, or any individual responsible for maintaining an enterprise or public videophone, that ports a NANP telephone number to another VRS or IP Relay provider or otherwise selects a new default provider; and

(ii) * * *

(B) VRS and IP Relay providers other than the default provider are aware that they must query the TRS Numbering Directory in order to obtain accurate routing information for a particular user of VRS or IP Relay, or for an enterprise or public videophone.

* * * * *

5. Amend § 64.613 by revising paragraphs (a)(1), (2), and (4) and adding paragraphs (a)(5) and (c) to read as follows:

§ 64.613 Numbering directory for internet-based TRS users.

(a) TRS Numbering Directory. (1) The TRS Numbering Directory shall contain records mapping the geographically appropriate NANP telephone number of each Registered internet-based TRS User, registered enterprise videophone, registered public videophone, direct video customer support center, and hearing point-to-point video user to a unique Uniform Resource Identifier (URI).

(2) For each record associated with a geographically appropriate NANP telephone number for a registered VRS user, enterprise videophone, public videophone, direct video customer support center, or hearing point-to-point video user, the URI shall contain a server domain name or the IP address of the user's device. For each record associated with an IP Relay user's geographically appropriate NANP telephone number, the URI shall contain the user's user name and domain name that can be subsequently resolved to reach the user.

* * * * *

(4) Only the TRS Numbering Administrator, internet-based TRS providers, and Qualified Direct Video Entities may access the TRS Numbering Directory.

(5) VRS providers shall route all calls placed to NANP numbers entered in the TRS Numbering Directory in accordance with the associated routing information, except that a call placed by a registered VRS user to a NANP number that is capable of receiving either voice or video calls may be handled and routed as a VRS call if the caller affirmatively so requests.

* * * * *

(c) Direct video customer support—(1) Registration. Any person seeking to access the TRS Numbering Directory as a Qualified Direct Video Entity shall submit an application to the Commission addressed to the Federal Communications Commission, Chief, Consumer and Governmental Affairs Bureau and captioned “Direct Video Numbering Directory Access Application.” The application shall include:

(i) The applicant's name, address, telephone number, and email address;

(ii) A description of the service to be provided;

(iii) An acknowledgment that the authorization granted under this paragraph (c) is subject to compliance with applicable Commission rules;

(iv) Contact information for personnel responsible for addressing issues relating to such compliance; and

(v) Certification that the applicant's description of service meets the definition of direct video customer support and that the information provided is accurate and complete.

(2) Commission authorization. The Commission shall approve an application for a Qualified Direct Video Entity to have access to the TRS Numbering Directory if the applicant demonstrates, through its responses to each of the requests for information in paragraph (c)(1) of this section and any additional information requested by the Commission, that the applicant has a legitimate need for such access and is aware of its regulatory obligations.

(3) Termination of authorization. Authorization to access the TRS Numbering Directory shall terminate:

(i) If a Qualified Direct Video Entity relinquishes its authorization by notifying the Commission;

(ii) Automatically if one year elapses with no call-routing queries received regarding any of the Qualified Direct Video Entity's NANP telephone numbers; or

(iii) If the Commission determines, after notice to the entity and an opportunity for the entity to contest the proposed termination, that the entity is no longer qualified as described in its application, has materially misrepresented information to the Commission, the TRS Numbering administrator, or the TRS User Registration Database administrator, has failed to provide required information in the format requested, or has violated an applicable Commission rule or order or a requirement imposed by authority of the TRS Numbering administrator or the TRS User Registration Database administrator. Following the termination of an authorization, the TRS Numbering administrator shall remove the previously authorized entity's telephone numbers from the TRS Numbering Directory.

(4) Notification of material change. A Qualified Direct Video Entity that is granted access to the TRS Numbering Directory shall notify the Commission within 60 days of any material changes to information provided in its application.

(5) Qualified Direct Video Entities' obligations. A Qualified Direct Video Entity shall comply with all relevant rules and obligations applicable to VRS providers' access to the TRS Numbering Directory and the use of numbers provisioned in the TRS Numbering Directory, including, but not limited to:

(i) Provisioning and maintaining current routing information in the TRS Numbering Directory for each NANP telephone number that it enters in such directory;

(ii) Being able to make point-to-point calls and receive point-to-point or VRS calls from any VRS user in accordance with all interoperability standards applicable to VRS providers, including, but not limited to, the relevant technical standards specified in § 64.621(b);

(iii) Protecting customer proprietary network information of any VRS user obtained in accordance with §§ 64.5101 through 64.5111 (TRS Customer Proprietary Network Information);

(iv) Following TRS Numbering Directory access procedures and performing related administrative functions as directed by the TRS Numbering administrator in consultation with the Managing Director and the Chief, Consumer and Governmental Affairs Bureau; and

(v) Adhering to all other applicable standards pertaining to privacy, security, and reliability.

(6) Call transfer capability. A Qualified Direct Video Entity shall ensure that each customer support center is able to initiate a call transfer that converts a point-to-point video call into a VRS call, in the event that a VRS user communicating with a direct video customer agent needs to be transferred to a hearing person while the call is in progress. No later than December 6, 2019, each VRS provider shall be capable of activating an effective call transfer procedure within 60 days after receiving a request to do so from a Qualified Direct Video Entity.

(7) TRS User Registration Database. For each direct video number to be entered into the TRS Numbering Directory, unless otherwise instructed by the TRS User Registration Database administrator, a Qualified Direct Video Entity must create an equivalent entry in the TRS User Registration Database by providing:

(i) The Qualified Direct Video Entity's name;

(ii) The date that the Qualified Direct Video Entity was approved for TRS Numbering Directory access;

(iii) The name of the end-user customer support center (if different from the Qualified Direct Video Entity);

(iv) Contact information for the end-user customer support call center(s); and

(v) Other information reasonably requested by the TRS User Registration Database administrator.

6. Amend § 64.615 by revising paragraph (a)(1) introductory text, redesignating paragraphs (a)(2) through (5) as paragraphs (a)(3) through (6), adding new paragraph (a)(2), and revising newly redesignated paragraph (a)(6) to read as follows:

§ 64.615 TRS User Registration Database and administrator.

(a) * * *

(1) VRS users call validation. VRS providers shall validate the eligibility of the party on the video side of each call by querying the TRS User Registration Database or the TRS Numbering Directory, as directed by the Commission, the TRS Fund administrator, or the TRS Numbering Administrator, on a per-call basis. Emergency 911 calls are excepted from the requirement in this paragraph (a)(1).

* * * * *

(2) Enterprise and public videophone call validation. (i) VRS providers shall validate the registration of an enterprise or public videophone used for a VRS call by querying the designated database in accordance with paragraph (a)(1) of this section.

(ii) [Reserved]

(iii) VRS providers shall require their CAs to terminate any call which does not include a registered enterprise or public videophone or, pursuant to the provider's policies, the call does not appear to be a legitimate VRS call, and VRS providers may not seek compensation for such calls from the TRS Fund.

(iv) Emergency 911 calls from enterprise and public videophones shall be exempt from the videophone validation requirements of paragraph (a)(2)(i) of this section.

* * * * *

(6) User verification. (i) The TRS User Registration Database shall have the capability of performing an identification verification check when a VRS provider, IP CTS provider, or other party submits a query to the database about an existing or potential user or an enterprise or public videophone.

(ii) VRS and IP CTS providers shall not register individuals or enterprise or public videophones that do not pass the identification verification check conducted through the TRS User Registration Database.

(iii) VRS providers shall not seek compensation for calls placed by individuals or for calls placed to or from enterprise or public videophones that do not pass the identification verification check conducted through the TRS User Registration Database.

(iv) IP CTS providers shall not seek compensation for calls placed to or from individuals that do not pass the identification verification check conducted through the TRS User Registration Database.

* * * * *

[FR Doc. 2019-11213 Filed 6-5-19; 8:45 am]

BILLING CODE 6712-01-P